DEPARTMENT OF TRANSPORTATION

14 CFR Part 97

[Docket No. 30605; Amdt. No. 3267]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 30, 2008. The compliance date for each SIAP, associated Takeoff Minimums, and ODP is specified in the amendatory provisions.

The incorporation by reference of certain publications listed in the regulations is approved by the Director of the Federal Register as of April 30, 2008.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For Information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under DOT Regulatory Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 18, 2008.
James J. Ballough,
Director, Flight Standards Service.

Adoption of the Amendment

Accordingly, pursuant to the authority delegated to me, Title 14, Code of Federal Regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Corrected]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC date | State | City | Airport | FDC No. | Subject
04/03/08 | CA | Los Banos | Los Banos Muni | 8/0967 | VOR/DME or GPS Rwy 32, Amdt 4B.
04/03/08 | CA | Los Banos | Los Banos Muni | 8/0968 | VOR/DME or GPS Rwy 14, Amdt 4A.
04/03/08 | CA | Ontario | Ontario Intl | 8/0969 | RNAV (GPS) Rwy 8R, Amdt 1.
04/03/08 | MO | Hannibal | Hannibal Regional | 8/0992 | NDB or GPS Rwy 35, Amdt 3.
04/03/08 | MO | Hannibal | Hannibal Regional | 8/0995 | VOR or GPS A, Amdt 3.
04/03/08 | MN | Minneapolis | Crystal | 8/1017 | GPS Rwy 14L, Orig-B.
04/03/08 | IL | Pekin | Pekin Muni | 8/1018 | VOR or GPS A, Amdt 6.
04/03/08 | MO | Salem | Salem Memorial | 8/1019 | VOR A, Orig.
04/03/08 | MI | Hancock | Houghton County Memorial | 8/1020 | VOR or GPS Rwy 25, Amdt 17A.
04/03/08 | IL | Carbondale/Murphysboro | Southern Illinois | 8/1025 | VOR or GPS A, Amdt 5B.
04/03/08 | MO | Cape Girardeau | Cape Girardeau Regional | 8/1033 | ILS Rwy 10, Amdt 10A.
04/03/08 | MO | Kansas City | Charles B. Wheeler Downtown | 8/1034 | ILS or LOC Rwy 3, Amdt 2.
04/03/08 | IA | Sioux City | Sioux Gateway/Col Bud Day Field | 8/1035 | GPS Rwy 17, Amdt 1.
04/04/08 | FL | Miami | Opa Locka | 8/1145 | GPS Rwy 9L, Orig-A.
04/04/08 | GA | Augusta | Augusta Regional At Bush Field | 8/1146 | RNAV (GPS) Rwy 26, Orig.
04/04/08 | MO | Malden | Malden Muni | 8/1223 | VOR Rwy 31, Amdt 8.
04/04/08 | MO | Malden | Malden Muni | 8/1224 | RNAV (GPS) Rwy 18, Orig.
04/04/08 | MO | Malden | Malden Muni | 8/1225 | RNAV (GPS) Rwy 31, Orig.
04/04/08 | MO | Malden | Malden Muni | 8/1226 | VOR/DME Rwy 13, Orig.
04/04/08 | MO | Malden | Malden Muni | 8/1227 | RNAV (GPS) Rwy 36, Orig.
04/04/08 | MO | Lebanon | Floyd W Jones Lebanon | 8/1230 | RNAV (GPS) Rwy 36, Orig-A.
04/04/08 | MO | Lebanon | Floyd W Jones Lebanon | 8/1231 | SDF Rwy 36, Amdt 5A.
04/04/08 | MO | Lebanon | Floyd W Jones Lebanon | 8/1232 | RNAV (GPS) Rwy 18, Orig-A.
04/07/08 | NY | Watertown | Watertown Intl | 8/1434 | ILS Rwy 7, Amdt 6C.
04/07/08 | VT | Newport | Newport State | 8/1438 | GPS Rwy 36, Orig.
04/07/08 | NY | Watertown | Watertown Intl | 8/1460 | RNAV (GPS) Rwy 7, Orig.
04/07/08 | NY | Watertown | Watertown Intl | 8/1465 | VOR Rwy 7, Amdt 13B.
04/07/08 | PA | Pottstown | Pottstown Limerick | 8/1471 | LOC Rwy 28, Amdt 2.
04/07/08 | AK | Fairbanks | Fairbanks Intl | 8/1547 | RNAV (GPS) Y Rwy 1L, Orig-B.
04/07/08 | AK | Fairbanks | Fairbanks Intl | 8/1548 | RNAV (GPS) Y Rwy 19R, Orig-C.
04/07/08 | WI | Amery | Amery Muni | 8/1599 | NDB Rwy 18, Amdt 6.
04/07/08 | TX | Abilene | Abilene Regional | 8/1600 | VOR or GPS Rwy 22, Amdt 3B.
04/07/08 | ND | Jamestown | Jamestown Regional | 8/1603 | RNAV (GPS) Rwy 4, Orig.
04/07/08 | ND | Minot | Minot Intl | 8/1604 | VOR or GPS Rwy 26, Amdt 12A.
04/07/08 | MN | Minneapolis | Crystal | 8/1613 | VOR or GPS A, Amdt 9C.
04/07/08 | ND | Northwood | Northwood Muni-Vince Field | 8/1646 | RNAV (GPS) Rwy 26, Orig.
04/08/08 | PA | Selinsgrove | Penn Valley | 8/1683 | VOR-A, Amdt 6.
04/08/08 | RI | Block Island | Block Island State | 8/1684 | VOR Rwy 28, Amdt 4.
04/08/08 | IN | Auburn | De Kalb County | 8/1689 | RNAV (GPS ) Rwy 9, Orig.
04/08/08 | IN | Auburn | De Kalb County | 8/1690 | RNAV (GPS) Rwy 27, Orig.
04/08/08 | IN | Auburn | De Kalb County | 8/1691 | ILS or LOC Rwy 27, Amdt 1.
04/08/08 | IN | Anderson | Anderson Muni-Darlington Field | 8/1692 | ILS Rwy 30, Orig.
04/08/08 | GA | Savannah | Savannah/Hilton Head Intl | 8/1694 | RNAV (GPS) Rwy 18, Amdt 1.
04/08/08 | IN | Bloomington | Monroe County | 8/1696 | RNAV (GPS) Rwy 24, Orig.
04/08/08 | IN | Bloomington | Monroe County | 8/1697 | VOR Rwy 24, Amdt 11.
04/08/08 | IN | Bloomington | Monroe County | 8/1698 | RNAV (GPS) Rwy 17, Orig.
04/07/08 | OK | Sand Springs | William R. Pogue Muni | 8/1743 | NDB Rwy 35, Amdt 2D.
04/07/08 | OK | Sand Springs | William R. Pogue Muni | 8/1744 | GPS Rwy 35, Orig-B.
04/08/08 | IA | Sibley | Sibley Muni | 8/1787 | NDB or GPS Rwy 17, Amdt 1A.
04/08/08 | TN | Union City | Everett-Stewart | 8/1854 | ILS Rwy 1, Orig.
04/09/08 | WY | Rawlins | Rawlins Muni/Harvey Field | 8/1973 | VOR or GPS Rwy 22, Amdt 1B.
04/09/08 | MS | West Point | West Point/McCharen | 8/2030 | RNAV (GPS) Rwy 36, Orig.
04/09/08 | GA | Fitzgerald | Fitzgerald Muni | 8/2035 | NDB or GPS Rwy 1, Orig.
04/09/08 | GA | Fitzgerald | Fitzgerald Muni | 8/2036 | LOC Rwy 1, Orig.
04/09/08 | WI | Ashland | John F. Kennedy Memorial | 8/2073 | VOR or GPS Rwy 2, Amdt 5.
04/09/08 | WI | Ashland | John F. Kennedy Memorial | 8/2074 | VOR or GPS Rwy 31, Amdt 6.
04/09/08 | ND | Devils Lake | Devils Lake Rgnl | 8/2079 | VOR Rwy 13, Orig.
04/09/08 | ND | Devils Lake | Devils Lake Rgnl | 8/2080 | GPS Rwy 13, Orig.
04/09/08 | ND | Devils Lake | Devils Lake Rgnl | 8/2081 | GPS Rwy 31, Orig.
04/09/08 | ND | Devils Lake | Devils Lake Rgnl | 8/2082 | VOR Rwy 31, Orig.
04/09/08 | ND | Devils Lake | Devils Lake Rgnl | 8/2083 | ILS Rwy 31, Amdt 1.
04/09/08 | MN | Thief River Falls | Thief River Falls Regional | 8/2106 | VOR Rwy 31, Amdt 8A.
04/09/08 | MN | Thief River Falls | Thief River Falls Regional | 8/2107 | VOR or GPS Rwy 13, Amdt 8A.
04/09/08 | MN | Thief River Falls | Thief River Falls Regional | 8/2108 | VOR/DME Rwy 13, Amdt 2A.
04/09/08 | MN | Thief River Falls | Thief River Falls Regional | 8/2109 | ILS Rwy 31, Amdt 2B.
04/09/08 | MN | Thief River Falls | Thief River Falls Regional | 8/2111 | NDB or GPS Rwy 31, Amdt 1B.
04/09/08 | MN | Thief River Falls | Thief River Falls Regional | 8/2112 | VOR/DME Rwy 31, Amdt 3B.
04/09/08 | LA | Alexandria | Alexandria Intl | 8/2133 | VOR/DME Rwy 14, Orig-A.
04/09/08 | LA | Alexandria | Alexandria Intl | 8/2135 | VOR/DME Rwy 32, Amdt 1.
04/09/08 | LA | Alexandria | Alexandria Intl | 8/2136 | RNAV (GPS) Rwy 32, Amdt 1.
04/09/08 | LA | Alexandria | Alexandria Intl | 8/2139 | RNAV (GPS) Rwy 18, Amdt 1.
04/09/08 | LA | Alexandria | Alexandria Intl | 8/2140 | ILS or LOC Rwy 14, Orig-A.
04/09/08 | LA | Alexandria | Alexandria Intl | 8/2141 | RNAV (GPS) Rwy 14, Orig-A.
04/10/08 | TX | Killeen | Skylark Field | 8/2222 | ILS Rwy 1, Amdt 2B.
04/10/08 | TX | Killeen | Skylark Field | 8/2223 | NDB or GPS Rwy 1, Amdt 5B.
04/10/08 | MO | Mountain Grove | Mountain Grove Memorial | 8/2229 | VOR/DME or GPS Rwy 8, Orig.
04/10/08 | LA | Lafayette | Lafayette Regional | 8/2349 | ILS or LOC/DME Rwy 4R, Amdt 1.
04/10/08 | LA | Lafayette | Lafayette Regional | 8/2350 | RNAV (GPS) Rwy 22L, Orig.
04/10/08 | LA | Lafayette | Lafayette Regional | 8/2351 | RNAV (GPS) Rwy 4R, Orig.
04/10/08 | LA | Lafayette | Lafayette Regional | 8/2352 | ILS or LOC Rwy 22L, Amdt 4F.
04/11/08 | MO | St Louis | Lambert-St Louis Intl | 8/2685 | RNAV (GPS) Rwy 29, Orig.
04/11/08 | MO | St Louis | Lambert-St Louis Intl | 8/2686 | ILS or LOC Rwy 6, Amdt 1A.
04/11/08 | NJ | Morristown | Morristown Muni | 8/2692 | RNAV (GPS) Rwy 5, Amdt 1.
04/11/08 | NJ | Morristown | Morristown Muni | 8/2693 | NDB or GPS Rwy 5, Amdt 11.
04/11/08 | NJ | Morristown | Morristown Muni | 8/2696 | ILS or LOC Rwy 23, Amdt 9A.
04/11/08 | OR | Medford | Rogue Valley International-Medford | 8/2713 | ILS Rwy 14, Amdt 1.
04/11/08 | MO | St Louis | Lambert-St Louis Intl | 8/2754 | ILS or LOC Rwy 30R Amdt 9A * * * ILS Rwy 30R (Cat II) Amdt 9A * * * ILS Rwy 30R (Cat III) Amdt 9A.
04/11/08 | MO | St Louis | Lambert-St Louis Intl | 8/2762 | RNAV (GPS) Rwy 12R, Orig.
04/11/08 | MO | Sedalia | Sedalia Memorial | 8/2785 | RNAV (GPS) Rwy 36, Amdt 1.
04/11/08 | MO | Sedalia | Sedalia Memorial | 8/2788 | RNAV (GPS) Rwy 18, Amdt 1.
04/11/08 | WA | Spokane | Spokane Intl | 8/2801 | VOR Rwy 3, Amdt 12A.
04/11/08 | WY | Casper | Natrona County Intl | 8/2818 | VOR/DME Rwy 3, Amdt 4.
04/11/08 | WA | Olympia | Olympia | 8/2819 | ILS or LOC Rwy 17, Amdt 10.
04/11/08 | UT | Salt Lake City | Salt Lake City Intl | 8/2844 | RNAV (GPS) Rwy 34R, Orig.
04/12/08 | UT | Salt Lake City | Salt Lake City Intl | 8/2845 | ILS or LOC Rwy 34 Amdt 2 * * * ILS Rwy 34R (Cat Ii), Amdt 2, * * * ILS Rwy 34R (Cat III), Amdt 2.
04/14/08 | CA | Palmdale | Palmdale Regional/USAF Plant 42 | 8/3000 | VOR/DME or Tacan or GPS Rwy 25, Amdt 6A.
04/14/08 | CA | San Diego/El Cajon | Gillespie Field | 8/3003 | GPS Rwy 17, Orig.
04/14/08 | CA | Palmdale | Palmdale Regional/USAF Plant 42 | 8/3017 | ILS Rwy 25, Amdt 8A.
04/14/08 | AK | Deering | Deering | 8/3019 | RNAV (GPS) Rwy 29, Orig.
04/14/08 | AK | Deering | Deering | 8/3021 | RNAV (GPS) Rwy 2, Orig.
04/14/08 | AK | Deering | Deering | 8/3022 | RNAV (GPS) Rwy 11, Orig.
04/14/08 | AK | Deering | Deering | 8/3023 | RNAV (GPS) Rwy 20, Orig.
04/14/08 | AK | Wales | Wales | 8/3024 | RNAV (GPS) Rwy 18, Orig.
04/14/08 | AK | Wales | Wales | 8/3025 | RNAV (GPS) Rwy 36, Orig.
04/14/08 | HI | Lanai City | Lanai | 8/3036 | VOR or Tacan or GPS Rwy 3, Amdt 6A.
04/14/08 | HI | Lihue | Lihue | 8/3040 | ILS Rwy 35, Amdt 6.
04/14/08 | AK | Cordova | Merle K (Mudhole) Smith | 8/3043 | RNAV (GPS) Rwy 27, Orig-A.
04/14/08 | AK | Cordova | Merle K (Mudhole) Smith | 8/3046 | ILS or LOC/DME Rwy 27, Amdt 9A.
04/14/08 | AK | Cordova | Merle K (Mudhole) Smith | 8/3048 | RNAV (GPS) B, Amdt 1A.
04/14/08 | NV | Reno | Reno | 8/3090 | ILS Rwy 16R, Amdt 10B.
04/14/08 | UT | Tooele | Bolinder Field-Tooele Valley | 8/3092 | NDB Rwy 17, Amdt 1.
04/15/08 | MO | Neosho | Neosho Hugh Robinson | 8/3138 | RNAV (GPS) Rwy 1, Orig.
04/15/08 | MO | Neosho | Neosho Hugh Robinson | 8/3139 | VOR A, Amdt 7.
04/15/08 | MO | Neosho | Neosho Hugh Robinson | 8/3140 | RNAV (GPS) Rwy 19, Orig.
04/15/08 | MI | New Hudson | Oakland Southwest | 8/3144 | VOR or GPS A, Amdt 3.
04/15/08 | MD | Fort Meade (Odenton) | William F. (Shorty) Tipton | 8/3145 | RNAV (GPS) Rwy 28, Orig.
04/15/08 | MS | Oxford | University-Oxford | 8/3151 | VOR/DME A, Amdt 4A.
04/15/08 | IN | Elkhart | Elkhart | 8/3160 | RNAV (GPS) Rwy 36, Orig.
04/15/08 | IN | Elkhart | Elkhart | 8/3161 | VOR/DME Rwy 36, Amdt 4.
04/15/08 | IN | Elkhart | Elkhart | 8/3162 | RNAV (GPS) Rwy 18, Orig.
04/15/08 | IN | Elkhart | Elkhart | 8/3163 | VOR Rwy 27, Amdt 15.
04/15/08 | IN | Elkhart | Elkhart | 8/3164 | RNAV (GPS) Rwy 27, Orig.
04/15/08 | TX | Lubbock | Lubbock Preston Smith Intl | 8/3168 | ILS Rwy 17R, Amdt 16A.
04/15/08 | MT | Livingston | Mission Field | 8/3186 | VOR A, Amdt 5B.
04/15/08 | MI | Detroit | Willow Run | 8/3298 | RNAV (GPS) Rwy 9R, Orig.
04/15/08 | MI | Caro | Tuscola Area | 8/3300 | VOR/DME or GPS A, Amdt 4A.
04/15/08 | MT | Billings | Billings Logan Intl | 8/3306 | VOR/DME Rwy 28R, Amdt 13B.
04/15/08 | MT | Billings | Billings Logan Intl | 8/3307 | RNAV (GPS) Rwy 25, Orig.
04/15/08 | MT | Billings | Billings Logan Intl | 8/3308 | RNAV (GPS) Rwy 28R, Amdt 1.
04/15/08 | MT | Billings | Billings Logan Intl | 8/3309 | NDB Rwy 10L, Amdt 19.
04/15/08 | MT | Billings | Billings Logan Intl | 8/3310 | VOR or GPS A, Amdt 1A.
04/15/08 | MT | Billings | Billings Logan Intl | 8/3311 | RNAV (GPS) Rwy 7, Orig.
04/15/08 | MO | Brookfield | North Central Missouri Regional | 8/3330 | RNAV (GPS) Rwy 18, Orig.
04/16/08 | WV | Wheeling | Wheeling Ohio Co | 8/3372 | ILS or LOC Rwy 3, Amdt 21.
04/16/08 | TX | Baytown | Rwj Airpark, Baytown | 8/3506 | RNAV (GPS) Rwy 26, Amdt 1.
04/16/08 | ID | Lewiston | Lewiston-Nez Perce County | 8/3523 | ILS Rwy 26, Amdt 11B.
04/16/08 | ID | Lewiston | Lewiston-Nez Perce County | 8/3527 | VOR or GPS Rwy 26, Amdt 12B.
04/16/08 | MS | Oxford | University-Oxford | 8/3528 | VOR/DME or GPS A, Amdt 4A.
04/16/08 | VA | Richmond | Richmond Intl | 8/3531 | RNAV (GPS) Rwy 34, Orig-A.
04/16/08 | SC | Spartanburg | Spartanburg Downtown Memorial | 8/3533 | NDB or GPS A, Amdt 8B.
04/16/08 | ID | Pocatello | Pocatello Regional | 8/3538 | RNAV (GPS) Rwy 3, Amdt 1.
04/16/08 | SC | Spartanburg | Spartanburg Downtown Memorial | 8/3541 | ILS Rwy 5, Orig.
04/16/08 | AL | Jasper | Walker County-Bevill Field | 8/3546 | ILS/DME Rwy 27, Orig.
04/16/08 | AL | Jasper | Walker County-Bevill Field | 8/3547 | VOR/DME or GPS A, Amdt 2.
04/16/08 | MD | College Park | College Park | 8/3548 | TKOF MINS and Obstacle DP, Amdt 3A.

[FR Doc. E8-9242 Filed 4-29-08; 8:45 am]

BILLING CODE 4910-13-P